DEPARTMENT OF COMMERCE

Foreign-Trade Zones Board

[Docket 28-2011]

Foreign-Trade Zone 276—Kern County, CA; Application for Expansion

An application has been submitted to the Foreign-Trade Zones Board (the Board) by the County of Kern Department of Airports, grantee of FTZ 276, requesting authority to expand FTZ 276 to include a site in Shafter, California. The application was submitted pursuant to the provisions of the Foreign-Trade Zones Act, as amended (19 U.S.C. 81a-81u), and the regulations of the Board (15 CFR part 400). It was formally filed on April 28, 2011.

FTZ 276 was approved on January 19, 2010 (Board Order 1653, 75 F.R. 8920-8921, 02/26/2010). A site (Site 2) was transferred from FTZ 202 to FTZ 276 on December 20, 2011 (Board Order 1732, 76 FR 86-87, 01/03/2011). The zone currently consists of two sites (1,690 acres): Site 1 (1,443 acres) is located at parcels within and adjacent to the Meadows Field Airport, Bakersfield (subject to the 230-acre activation limit indicated by the applicant in its original application); and, Site 2 (247 acres) within the 1,450-acre Tejon Industrial complex, located at the intersection of Interstate 5 and Highway 99, Lebec.

The applicant is requesting authority to expand the zone to include a site in Kern County: Proposed Site 3 (564 acres)—International Trade and Transportation Center, 7th Standard Road and Santa Fe Highway, Shafter. The proposed site is currently designated as Site 3 under FTZ 202. The site will provide warehousing and distribution services to area businesses. No specific manufacturing authority is being requested at this time. Such requests would be made to the Board on a case-by-case basis.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is July 5, 2011. Rebuttal comments in response to material submitted during the foregoing period may be submitted during the subsequent 15-day period to July 18, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Christopher Kemp at Christopher.Kemp@trade.gov or (202) 482-0862.

Dated: April 28, 2011.
Andrew McGilvray,
Executive Secretary.

[FR Doc. 2011-10888 Filed 5-3-11; 8:45 am]

BILLING CODE P